DEPARTMENT OF ENERGY

Federal Energy Regulatory Commission

Combined Notice of Filings #1

Take notice that the Commission received the following electric corporate filings:

Docket Numbers: EC21-47-000.

Applicants: R-WS Antelope Valley Gen-Tie, LLC, Portal Ridge Solar A, LLC, OMERS Administration Corporation.

Description: Application for Authorization Under Section 203 of the Federal Power Act of R-WS Antelope Valley Gen-Tie, LLC, et al.

Filed Date: 1/25/21.

Accession Number: 20210125-5231.

Comments Due: 5 p.m. ET 2/16/21.

Take notice that the Commission received the following electric rate filings:

Docket Numbers: ER10-2633-039.

Applicants: Birchwood Power Partners, L.P.

Description: Notice of Change in Status of Birchwood Power Partners, L.P.

Filed Date: 1/22/21.

Accession Number: 20210122-5128.

Comments Due: 5 p.m. ET 2/12/21.

Docket Numbers: ER10-2924-015.

Applicants: Kleen Energy Systems, LLC.

Description: Notice of Non-Material Change in Status of Kleen Energy Systems, LLC.

Filed Date: 1/26/21.

Accession Number: 20210126-5111.

Comments Due: 5 p.m. ET 2/16/21.

Docket Numbers: ER19-2757-003.

Applicants: California Independent System Operator Corporation.

Description: Compliance filing: 2021-01-26 Petition for Limited Tariff Waiver—Postpone Eff. Date to June 2021 to be effective N/A.

Filed Date: 1/26/21.

Accession Number: 20210126-5104.

Comments Due: 5 p.m. ET 2/16/21.

Docket Numbers: ER21-639-000.

Applicants: Wapello Solar LLC.

Description: Supplement to December 14, 2020 Wapello Solar LLC tariff filing.

Filed Date: 1/21/21.

Accession Number: 20210121-5316.

Comments Due: 5 p.m. ET 2/5/21.

Docket Numbers: ER21-940-000.

Applicants: Hardin Solar Energy LLC.

Description: Baseline eTariff Filing: Shared Facilities Agreement to be effective 1/26/2021.

Filed Date: 1/25/21.

Accession Number: 20210125-5214.

Comments Due: 5 p.m. ET 2/16/21.

Docket Numbers: ER21-941-000.

Applicants: ISO New England Inc., New England Power Pool Participants Committee.

Description: Compliance filing: ISO-NE and NEPOOL; Revisions to Schedule 24 to Comply with Order No. 676-I to be effective 12/31/9998.

Filed Date: 1/26/21.

Accession Number: 20210126-5034.

Comments Due: 5 p.m. ET 2/16/21.

Docket Numbers: ER21-942-000.

Applicants: Southern California Edison Company.

Description: § 205(d) Rate Filing: Amended GIA Windpower Partner 1993, LLC Renwind Project SA No. 375 to be effective 1/27/2021.

Filed Date: 1/26/21.

Accession Number: 20210126-5061.

Comments Due: 5 p.m. ET 2/16/21.

Docket Numbers: ER21-943-000.

Applicants: ISO New England Inc.

Description: § 205(d) Rate Filing: ISO-NE; Revisions to Obligations of Energy Efficiency Resources Under PFP to be effective 4/1/2021.

Filed Date: 1/26/21.

Accession Number: 20210126-5084.

Comments Due: 5 p.m. ET 2/16/21.

Docket Numbers: ER21-944-000.

Applicants: Southwestern Electric Power Company.

Description: § 205(d) Rate Filing: Bentonville PSA to be effective 3/28/2021.

Filed Date: 1/26/21.

Accession Number: 20210126-5132.

Comments Due: 5 p.m. ET 2/16/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 26, 2021.
Nathaniel J. Davis, Sr.,
Deputy Secretary.

[FR Doc. 2021-02094 Filed 1-29-21; 8:45 am]

BILLING CODE 6717-01-P